DEPARTMENT OF ENERGY

Federal Energy Regulatory Commission

[Project No. 2731-028]

Central Vermont Public Service Corporation; Notice Dismissing Request for Rehearing as Moot

April 15, 2002.

On February 13, 2002, Commission staff issued an order modifying and approving the project operations plan filed by the licensee under Article 404 of the license for the Weybridge Project, located on Otter Creek in the towns of Weybridge and New Haven, in Addison County, Vermont.¹ Ordering paragraphs (B) and (C) of the February 13, 2002 order required the licensee to file certain additional information. The licensee filed a timely request for rehearing, objecting to the filing requirements of those ordering paragraphs on the ground that it had previously submitted the information.

¹ 98 FERC ¶ 62,105.

On April 12, 2002, Commission staff issued an order modifying and approving a diversion structure construction plan under Article 402 and amending the February 13, 2002 order to delete Ordering paragraphs (B) and (C).² The licensee's rehearing request is thus moot and is dismissed.

² 99 FERC ¶ 62,042. The order noted that the required information had been previously filed by the licensee.

This notice constitutes final agency action. Requests for rehearing by the Commission of this dismissal notice may be filed within 30 days of the date of issuance of this notice, pursuant to 18 CFR 385.713.

Magalie R. Salas,
Secretary.

[FR Doc. 02-9772 Filed 4-19-02; 8:45 am]

BILLING CODE 6717-01-P